DEPARTMENT OF DEFENSE

Office of the Secretary

Meeting of the President's Commission on Care for America's Returning Wounded Warriors

AGENCY: Department of Defense.

ACTION: Notice.

SUMMARY: Pursuant to Section 10(a), Public Law 92-463, as amended, notice is hereby given of a forthcoming Meeting of the President's Commission on America's Returning Wounded Warriors. The purpose of the Committee meeting is to conduct briefings for the Commissioners. The meeting is open to the public, subject to the availability of space.

Interested persons may submit a written statement for consideration by the Committee and make an oral presentation of such. Persons desiring to make an oral presentation or submit a written statement to the Committee must notify the point of contact listed below no later than 18 April 2007. Oral presentations by members of the public will be permitted only on 23 April at 1 to 2 before the full Committee. Presentations will be limited to 5 minutes. Executive director and the Designated Federal official will select individuals for oral presentations and notify them in advance of the opportunity to make a 5 minute presentation to the Commission. Number of oral presentations to be made will depend on the number of requests received from members of the public. Each person desiring to make an oral presentation must provide the point of contact listed below with one (1) copy of the presentation by 18 April 2007, 5 p.m. and one copy of any material that is intended for distribution at the meeting. Persons submitting a written statement must submit one copy of the statement to the Commission staff by 5 p.m. POC Denise Dailey or Adrianne Holloway, toll free 877 588 2035 or Fax statements (703) 588-2046. Due to scheduling difficulties the Commission was unable to finalize its agenda in time to publish a Federal Register meeting notice of the 15-calendar days required by 41 CFR 102-3.150(a). Accordingly, the Committee Management Officer for the Department of Defense, pursuant to 41 CFR 102-3.150(b), waives the 15-calendar day notification requirement.

DATES: Monday, April 23, 2007.

Location: Main Conference Center, National Transportation Safety Board, 429 L'Enfant Plaza, SW., Washington, DC 20594.

For Further Information on Submitting Statements Contact: Col Denise Dailey or Adrianne Hollway, toll free 877 588 2035 or Fax statements (703) 588-2046.

SUPPLEMENTARY INFORMATION: Meeting agenda.

23 April 2007

Not Open to the Public.

8:30 a.m., Welcome Commissioners, Administrative Remarks.

10 a.m., Public Session.

Presentations:

The Disability System.

12 p.m.-1 p.m., Lunch.

1-2, Public Forum Presentations.

2-2:45, System and Issues.

3-5, Presentations.

5-TBD, Wrap Up.

24 April

Walter Reed Visit.

Date and Times

Note: Exact order may vary.

Dated: April 12, 2007.
L.M. Bynum,
Alternate OSD Federal Register Liaison Officer, DoD.

[FR Doc. 07-1908 Filed 4-17-07; 8:45 am]

BILLING CODE 5001-06-M